DEPARTMENT OF TRANSPORTATION

National Highway Traffic Safety Administration

49 CFR Part 571

[Docket No. NHTSA-2004-15400]

Federal Motor Vehicle Safety Standards; Tires

AGENCY: National Highway Traffic Safety Administration (NHTSA), Department of Transportation.

ACTION: Final rule; correcting amendment.

SUMMARY: Federal motor vehicle safety standard (FMVSS) No. 109, New pneumatic tires, specifies performance requirements for certain types of passenger car tires. Three paragraphs of regulatory text related to tire testing procedures have been inadvertently removed through administrative error. This document corrects this inadvertent removal.

DATES: Effective June 15, 2005.

FOR FURTHER INFORMATION CONTACT: Mr. George Feygin, Office of Chief Counsel, NCC-112. Telephone: 202-366-2992; Fax: 202-366-3820; E-mail: George.Feygin@nhtsa.dot.gov; 400 7th Street, SW., Washington, DC 20590.

SUPPLEMENTARY INFORMATION: FMVSS No. 109 specifies tire dimensions and laboratory test requirements for bead unseating resistance, strength, endurance, and high speed performance; defines tire load ratings; and specifies labeling requirements for certain types of passenger car tires.

On March 16, the Rubber Manufacturers Association informed the agency that paragraphs S5.4.2.4, S5.5, and S5.5.1 of FMVSS No. 109 were missing from the 2003 and 2004 versions of the CFR.¹ S5.4.2.4 specifies the last step of tire endurance testing. S5.5 provides the heading for high speed performance. S5.5.1 specifies the first step for high speed performance testing.

¹ See Docket No. 2003-15400-34 at: http://dms.dot.gov/search/searchResultsSimple.cfm.

The agency examined the recent CFR amendments affecting FMVSS No. 109 and concluded that the three paragraphs have been inadvertently removed from the CFR.² Without these paragraphs, the relevant tire performance testing specifications are incomplete. This document corrects the CFR by adding the inadvertently removed paragraphs of FMVSS No. 109.

² Interested parties can examine the current and previous versions of the CFR in PDF format at: http://www.access.gpo.gov/nara/cfr/cfr-table-search.html#page1.

This correction will not impose or relax any substantive requirements or burdens on manufacturers. Therefore, NHTSA finds for good cause that any notice and opportunity for comment on these correcting amendments are not necessary.

List of Subjects in 49 CFR Part 571

Motor vehicle safety; Reporting and recordkeeping requirements; Tires.

49 CFR Part 571 is corrected by making the following correcting amendment:

PART 571—[CORRECTED]

1. The authority citation continues to read as follows:

Authority: 49 U.S.C. 322, 2011, 30115, 30166 and 30177; delegation of authority at 49 CFR 1.50.

2. Amend § 571.109 by adding S5.4.2.4, S5.5, and S5.5.1 to read as follows:

§ 571.109 Standard No. 109; New pneumatic tires.

* * * * *

S5.4.2.4 Immediately after running the tire the required time, measure its inflation pressure. Allow the tire to cool for one hour. Then deflate the tire, remove it from the test rim, and inspect it for the conditions specified in S4.2.2.5(a).

S5.5 High speed performance.

S5.5.1 After preparing the tire in accordance with S5.4.1, mount the tire and wheel assembly in accordance with S5.4.2.1, and press it against the test wheel with a load of 88 percent of the tire's maximum load rating as marked on the tire sidewall.

* * * * *

Issued: May 10, 2005.
Stephen R. Kratzke,
Associate Administrator for Rulemaking.

[FR Doc. 05-9706 Filed 5-13-05; 8:45 am]

BILLING CODE 4910-59-U